DEPARTMENT OF AGRICULTURE

Forest Service

Oil and Gas Leasing EIS on Lands Administered by the Dixie National Forest

AGENCY: Forest Service, USDA and Bureau of Land Management, USDI.

ACTION: Notice of intent to prepare an environmental impact statement.

SUMMARY: The Forest Supervisor of the Dixie National Forest gives notice of the intent to prepare an environmental impact statement (EIS) to document the analysis and disclose the environmental and human effects of oil and gas leasing on lands administered by the Dixie National Forest. The Federal Onshore Oil and Gas Leasing Reform Act of 1987 requires the Forest Service to evaluate National Forest System lands for potential oil and gas leasing.

The EIS would analyze all lands with a federally-owned mineral estate within the Dixie National Forest.

As the agency responsible for lease issuance and administration, the Bureau of Land Management (BLM) will participate as a cooperating agency.

DATES: Comments concerning the scope of the analysis should be received within 30 days from date of publication of this notice in the Federal Register to be most useful. The draft environmental impact statement is expected winter 2007/2008, and the final environmental impact statement is expected summer 2008.

ADDRESSES: Susan Baughman, Oil and Gas Leasing Project Manager, Dixie National Forest, 1789 N. Wedgewood Lane, Cedar City, Utah 84720; phone: (435) 865-3703; fax: (435) 865-3791; e-mail: dixie_oil_gas_eis_comments@fs.fed.us. E-mailed comments must be submitted in MS Word (*.doc) or rich text format (*.rtf) and should include the project name in the subject line. Written comments may also be submitted at the above address during regular business hours of 8 a.m. to 5 p.m., Monday-Friday.

FOR FURTHER INFORMATION CONTACT: Susan Baughman, Oil and Gas Leasing Project Manager, Dixie National Forest, 1789 N. Wedgewood Lane, Cedar City, Utah 84720; phone: (435) 865-3703.

SUPPLEMENTARY INFORMATION: The EIS analysis area includes the entire Dixie National Forest (approximately 1,710,677 acres), with the exception of designated wilderness areas (approximately 82,840 acres) for a total study area of approximately 1,627,837 acres.

The Department of Interior, BLM, acts as the onshore leasing agent for the Federal government. The Federal Onshore Oil and Gas Leasing Reform Act of 1987 states that the BLM cannot lease over the objection of the Forest Service and authorizes the Forest Service to regulate all surface disturbing activities conducted pursuant to a lease. Therefore, the Forest Service has established an incremental decision-making framework for the consideration of oil and gas leasing activities on National Forest System lands. In general, the various steps that are undertaken are: (1) Forest Service leasing analysis; (2) Forest Service notification to BLM of lands administratively available for leasing; (3) Forest Service review and verification of BLM leasing proposals; (4) BLM assessment of Forest Service conditions of surface occupancy; (5) BLM offers lease; (6) BLM issues lease; (7) Forest Service review and approval of lessee's surface use plan of operations; (8) BLM review and approval of lessee's application for permit to drill; and (9) ensure final reclamation.

Based upon the Forest Service leasing analysis (step 1 from above), the Forest Service decides whether or not lands will be available for leasing and decides under what conditions (stipulations) the leases will be issued. This EIS will fulfill this step.

Purpose and Need for Action

The purpose of the proposed action is to complete a forest-wide leasing analysis, to comply with the Federal Onshore Oil and Gas Leasing Reform Act of 1987. This requires the Forest Service to analyze lands under its jurisdiction that are legally available for leasing to meet the federal regulatory requirements of 36 CFR 228.102 and in accordance with the National Environmental Policy Act of 1969. The need is to be responsive to requests for oil and gas leasing on the Dixie National Forest.

Since the Federal Onshore Oil and Gas Leasing Reform Act of 1987 was signed into law, no new oil and gas leases have been authorized on the Dixie National Forest. However the oil and gas industry continued to express interest in leasing and interest has recently escalated due to the increased demand for oil and gas, high prices, and discoveries of oil and gas reserves in other areas with similar geologic conditions. The BLM Utah State Office has received numerous written expressions of interest for leasing portions of the Dixie National Forest over the past several years.

Proposed Action

The Forest Supervisor of the Dixie National Forest and Utah State Director, Bureau of Land Management propose to conduct the analysis and decide which lands to make available for oil and gas leasing. The analysis area includes lands administered by the Dixie National Forest. As part of the analysis, the Forest Service will identify areas that would be available for leasing subject to the terms and conditions of the standard oil and gas lease form, or subject to constraints that would require the use of lease stipulations such as those prohibiting surface occupancy. The analysis will also: (1) Identify alternatives to the proposed action, including that of not allowing leasing (no action), (2) project the type/amount of post-leasing activity that is reasonably foreseeable, (3) analyze the reasonably foreseeable impacts of projected post-leasing activity [36 CFR 228.102(c)], and (4) be used to develop an amendment to the Forest Plan if necessary.

Possible Alternatives

All alternatives studied in detail must fall within the scope of the purpose and need for action and will generally tier to and comply with the Dixie Forest Plan. Law requires evaluation of a “no-action alternative.” Under the No Action/No Lease alternative, no oil and gas leasing would occur. Alternatives to be evaluated would range from the No Action/No Lease alternative (most restrictive) to the Standard Lease Terms alternative (least restrictive) where all lands legally open to leasing would be made administratively available for leasing with only the standard BLM terms and conditions contained on BLM Lease Form 3100-11. Other alternatives which fall somewhere between the No Action/No Leasing alternative and Lease with Standard Terms alternative would also be developed and evaluated, which would involve making some lands unavailable for leasing and other lands available for leasing with lease stipulations for the protection of other resources and interests.

The Forest is expecting that the public input will generate either thematic concerns or area-specific issues that may be addressed by modifying the proposed action to create a new alternative or alternatives.

Lead and Cooperating Agencies

The Forest Service is the lead agency. The Bureau of Land Management and State of Utah will participate as cooperating agencies.

Responsible Officials

Kevin Schulkoski, Acting Forest Supervisor, Dixie National Forest, 1789 N. Wedgewood Lane, Cedar City, Utah, 84720.

Nature of Decision To Be Made

The Forest Supervisor, Dixie National Forest, will decide which lands with federal mineral ownership administered by the Dixie National Forest will be administratively available for oil and gas leasing, along with associated conditions or constraints for the protection of non-mineral interests [36 CFR 228.102(d)]. The Forest Supervisor will also authorize the BLM to offer specific lands for lease, subject to the Forest Service ensuring that the required stipulations are attached to the leases [36 CFR 228.102(e)]. The Forest Service proposes to amend the Forest Plan to incorporate the leasing decision and other site-specific changes as indicated in the analysis.

The BLM is responsible for issuing and administration of oil and gas leases under the Mineral Leasing Act of 1920, as amended, and Federal Regulations in 43 CFR 3101.7. The BLM Utah State Director must decide whether or not to offer for lease specific lands authorized for leasing by the Dixie National Forest and with what stipulations.

Scoping Process

The first formal opportunity to comment on the Dixie National Forest Oil and Gas Leasing Analysis Project is during the scoping process (40 CFR 1501.7), which begins with the issuance of this Notice of Intent.

Mail comments to: Susan Baughman, Oil and Gas Leasing Project Manager, Dixie National Forest, 1789 N. Wedgewood Lane, Cedar City, Utah 84720. The Forest Service requests comments on the nature and scope of the environmental, social, and economic issues, and possible alternatives related to oil and gas leasing on lands administered by the Dixie National Forest.

A series of public opportunities are scheduled to describe the proposal and to provide an opportunity for public input. Three scoping meetings are planned:

January 16: 5 p.m. to 7 p.m., Best Western Abbey Inn, 1129 South Bluff, St. George, Utah.

January 17: 11 a.m. to 2 p.m., 5 p.m. to 7 p.m., Cannonville Visitor Center, 10 Center Street, Cannonville, Utah.

January 18: 5 p.m. to 7 p.m., Heritage Center, 105 North 100 East, Cedar City, Utah. Written comments will be accepted at these meetings. The Forest Service will work with tribal governments to address issues that would significantly or uniquely affect them.

Preliminary Issues

Issues that may be analyzed in all alternatives include: the socioeconomic effects of oil and gas leasing and subsequent activities; effects on terrestrial and aquatic flora and fauna, including threatened and endangered species, sensitive species, and management indicator species; effects on both developed and dispersed recreation; effects on air resources; effects on water resources, including wetlands, floodplains, riparian areas, culinary and municipal water systems, and groundwater; effects on visual resources; effects of leasing stipulations and mitigation measures on oil and gas exploration and development activity; effects on soils and geologic hazards; effects on cultural and traditional heritage resources; effects on transportation; effects on upland vegetation; effects on riparian vegetation; effects on inventoried roadless areas; effects on other mineral resource extraction activities; and effects on noxious weeds and invasive species. Specific issues will be developed through review of public comments and internal review.

Comment Requested

This Notice of Intent initiates the scoping process which guides the development of the environmental impact statement. The Forest has also received substantial input at public meetings held for the Forest Plan revision, including issues relative to mineral exploration and development. Through these efforts the Forest has an understanding of the broad range of perspectives on the resource issues and social values attributed to resource activities on the Dixie National Forest. Consequently site-specific comments or concerns are the most important types of information needed for this EIS. Because the Oil and Gas Leasing EIS is a stand-alone document, only public comment letters which address relevant issues and concerns will be considered and formally addressed in an appendix in the final environmental impact statement.

Early Notice of Importance of Public Participation in Subsequent Environmental Review

A draft environmental impact statement will be prepared for comment. The comment period on the draft environmental impact statement is expected to be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the providing comments during the scoping comment period and during the comment period following the draft EIS so that substantive comments and objections are made available to the Forest Service at a time when it can meaningfully consider them and respond to them in the final environmental impact statement.

To assist the Forest Service in identifying and considering issues and concerns on the proposed action, comments should be as specific as possible. Reviewers may wish to refer to the Council on Environmental Quality Regulations for implementing the procedural provisions of the National Environmental Policy Act at 40 CFR 1503.3 in addressing their points.

Comments received, including the names and addresses of those who comment, will be considered part of the public record on this proposal and will be available for public inspection.

(Authority: 40 CFR 1501.7 and 1508.22; Forest Service Handbook 1909.15, Section 21).

Dated: December 19, 2006.
Kevin R. Schulkoski,
Acting Forest Supervisor.

[FR Doc. E6-22038 Filed 12-28-06; 8:45 am]

BILLING CODE 3410-11-P